DEPARTMENT OF DEFENSE

Office of the Secretary

Membership of the Defense Information Systems Agency Senior Executive Service Performance Review Board

AGENCY: Defense Information Systems Agency, DoD.

ACTION: Notice.

SUMMARY: This notice announces the appointment of members to the Defense Information Systems Agency (DISA) Performance Review Board. The Performance Review Board provides a fair and impartial review of Senior Executive Service (SES) Performance appraisals and makes recommendations to the Acting Director, Defense Information Systems Agency, regarding final performance ratings and performance awards for DISA SES members.

DATES: Effective Date: Upon publication of this notice in the Federal Register.

FOR FURTHER INFORMATION CONTACT: Ms. Patti Wai, SES Program Manager, Defense Information Systems Agency, P.O. Box 4502, Arlington, Virginia 22204-4502, (703) 607-4411.

SUPPLEMENTARY INFORMATION: In accordance with 5 U.S.C. 4214(c)(4), the following are the names and titles of DISA career executives appointed to serve as members of the DISA Performance Review Board. Appointees will serve one-year terms, effective upon publication of this notice.

Mr. John J. Penkoske, Jr., Director, Manpower, Personnel, and Security, DISA, Chairperson.

Ms. Paige R. Atkins, Director, Defense Spectrum Organization, DISA, Member.

Mr. Anthony S. Montemarano, Component Acquisition Executive, DISA, Member.

Mr. Jimaye H. Sones, Chief Financial Executive/Comptroller, DISA, Member.

Dated: October 15, 2008.
Patricia L. Toppings,
OSD Federal Register Liaison Officer, Department of Defense.

[FR Doc. E8-25301 Filed 10-22-08; 8:45 am]

BILLING CODE 5001-06-P